ENVIRONMENTAL PROTECTION AGENCY

[EPA-HQ-ORD-2021-0601; FRL-11002-01-OMS]

Agency Information Collection Activities; Submission to the Office of Management and Budget for Review and Approval; Comment Request; Underground Storage Tank Finder Application (Renewal)

AGENCY: Environmental Protection Agency (EPA).

ACTION: Notice.

SUMMARY: The Environmental Protection Agency has submitted an information collection request (ICR), Underground Storage Tank Finder Application (EPA ICR Number 2696.01, OMB Control Number 2080-NEW), to the Office of Management and Budget (OMB) for review and approval in accordance with the Paperwork Reduction Act. This is a request for approval of a new collection. Public comments were previously requested via the Federal Register on September 15, 2022 during a 60-day comment period. This notice allows for an additional 30 days for public comments.

DATES: Comments may be submitted on or before June 23, 2023.

ADDRESSES: Submit your comments to EPA, referencing Docket ID Number EPA-HQ-ORD-2021-0601, online using https://www.regulations.gov/ (our preferred method), by email to Docket_ORD@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute. Submit written comments and recommendations to OMB for the proposed information collection within 30 days of publication of this notice to www.reginfo.gov/public/do/PRAMain. Find this particular information collection by selecting “Currently under 30-day Review—Open for Public Comments” or by using the search function.

FOR FURTHER INFORMATION CONTACT: Alexander Hall, Office of Research and Development, Center for Environmental Solutions and Emergency Response, Environmental Protection Agency, 26 West Martin Luther King Drive, Cincinnati, OH 45268; telephone number: (513) 569-7374; email address: hall.alexander@epa.gov.

SUPPLEMENTARY INFORMATION: This is a new ICR. An agency may not conduct or sponsor and a person is not required to respond to a collection of information unless it displays a currently valid OMB control number.

Public comments were previously requested via the Federal Register on September 15, 2022 during a 60-day comment period. Supporting documents that explain in detail the information that the EPA will collect are available in the public docket for this ICR. The docket can be viewed online at https://www.regulations.gov or in person at the EPA Docket Center, WJC West Building, Room 3334, 1301 Constitution Ave. NW, Washington, DC. The telephone number for the Docket Center is 202-566-1744. For additional information about EPA's public docket, visit http://www.epa.gov/dockets.

Abstract: The EPA recently developed the Underground Storage Tank (UST) Finder application (hereafter “UST Finder”). UST Finder is a publicly available web map application containing a comprehensive, state- sourced national map of UST and leaking underground storage tank (LUST) data. UST Finder is available via EPA's GeoPlatform at https://gispub.epa.gov/ustfinder. UST Finder provides users access to information on the attributes and locations of active and closed USTs, UST facilities, and LUSTs in states in a geographic information system (GIS) environment. This information collection relates to information that state and territorial agencies already collect from UST and LUST owners and operators as part of their customary business practice to manage their compliance and enforcement programs. To successfully implement, maintain, and improve the data quality and usability of UST Finder, the Agency seeks to gather, on a voluntary basis, information from state and territorial agencies that oversee UST/LUST programs. Specifically, EPA will request that these agencies provide location and other relevant data about USTs and LUSTs that is already being collected and managed by states and territories.

This information collection is voluntary and does not require the agencies to collect additional data on USTs/LUSTs beyond the data elements that are already being collected through their previously implemented programs. States and territories will decide the extent of information to be provided.

The EPA intends to implement four options for collecting the UST/LUST data from states and territories: (1) by developing an Exchange server or other automated service through which states can “push” their data to the EPA, (2) by developing a link to the agencies' pre-existing electronic service used to maintain public websites such that the EPA can “pull” the data, (3) by allowing states and territories to submit existing databases or spreadsheets through an approved file sharing method, or (4) by EPA obtaining publicly available data from state and territory public agency websites (an option that will be exercised if states and territories do not voluntarily submit their data). For all data transfer options, the EPA will standardize, curate, and enter records into the UST Finder application.

Form numbers: None.

Respondents/affected entities: States and territories with delegated authority to operate UST and LUST programs under 40 CFR parts 280, 281, 282, and 40 CFR 302.4.

Respondent's obligation to respond: Voluntary.

Estimated number of respondents: 56 (total). This includes the 50 states, the District of Columbia, Puerto Rico, the U.S. Virgin Islands, Guam, American Samoa, and the Commonwealth of the Northern Mariana Islands.

Frequency of response: Semiannually.

Total estimated burden: 3,470 hours (per year). Burden is defined at 5 CFR 1320.3(b).

Total estimated cost: $175,000 (per year), includes $0 annualized capital or operation and maintenance costs.

Changes in the estimates: This is a new information collection, therefore, there are no previous burden estimates. The estimated burden reflects assumptions based on Agency experience from the development of the UST Finder application and consultation with affected entities. No comments were received on the burden previously published in the Federal Register. Should the EPA request to extend this information collection 3 years from now, changes in burden will be evaluated at that time.

Courtney Kerwin,
Director, Regulatory Support Division.

[FR Doc. 2023-11007 Filed 5-23-23; 8:45 am]

BILLING CODE 6560-50-P